NATIONAL SCIENCE FOUNDATION

National Science Board; Sunshine Act Meetings; Notice

The National Science Board's ad hoc Committee on Honorary Awards, pursuant to NSF regulations (45 CFR Part 614), the National Science Foundation Act, as amended (42 U.S.C. 1862n-5), and the Government in the Sunshine Act (5 U.S.C. 552b), hereby gives notice in regard to the scheduling of meetings for the transaction of National Science Board business, as follows:

DATE AND TIME: Friday, November 16, 2012, at 1:30 p.m. EST, Tuesday, November 20, 2012, at 1:30 p.m. EST.

SUBJECT MATTER: Discussion of candidates for the 2013 Vannevar Bush Award and 2013 National Science Board Public Service Award.

STATUS: Closed.

These meetings will be held by teleconference originating at the National Science Board Office, National Science Foundation, 4201Wilson Blvd., Arlington, VA 22230.

Please refer to the National Science Board Web site (www.nsf.gov/nsb) for information or schedule updates, or contact: Ann Ferrante, National Science Foundation, 4201 Wilson Blvd., Arlington, VA 22230. Telephone: (703) 292-7000.

Suzanne Plimpton,
Management Analyst.

[FR Doc. 2012-28055 Filed 11-14-12; 4:15 pm]

BILLING CODE 7555-01-P